DEPARTMENT OF COMMERCE

International Trade Administration

Initiation of Antidumping and Countervailing Duty Administrative Reviews and Request for Revocation in Part

AGENCY: Import Administration, International Trade Administration, Department of Commerce.

ACTION: Notice of initiation of antidumping and countervailing duty administrative reviews and request for revocation in part.

SUMMARY: The Department of Commerce (the Department) has received requests to conduct administrative reviews of various antidumping and countervailing duty orders and findings with December anniversary dates. In accordance with our regulations, we are initiating those administrative reviews. The Department also received a request to revoke, in part, one antidumping duty order.

EFFECTIVE DATE: January 31, 2005.

FOR FURTHER INFORMATION CONTACT: Holly A. Kuga, Office of AD/CVD Enforcement, Import Administration, International Trade Administration, U.S. Department of Commerce, 14th Street and Constitution Avenue, NW., Washington, DC 20230, telephone: (202) 482-4737.

SUPPLEMENTARY INFORMATION:

Background

The Department has received timely requests, in accordance with 19 CFR 351.213(b)(2004), for administrative reviews of various antidumping and countervailing duty orders and findings with December anniversary dates. The Department also received a timely request to revoke in part the antidumping duty order on Honey from Argentina.

Initiation of Reviews: In accordance with 19 CFR 351.221(c)(1)(i), we are initiating administrative reviews of the following antidumping and countervailing duty orders and findings. We intend to issue the final results of these reviews not later than December 31, 2005.

| Period to be reviewed
Antidumping Duty Proceedings
Argentina: Honey, A-357-812 | 12/01/03-11/30/04
Asociacion de Cooperativas Argentinas
Centauro S.A.
Comexter Robinson S.A.
Compa Inversora Platense S.A.
Compania Apicola Argentina SA
Compania Europea Americana S.A.
ConAgra Argentina S.A.
Coope-Riel Ltda.
Cooperativa DeAgua Potable y Otros El Mana, S.A.
Establecimiento Don Angel S.r.L.
Food Way, S.A.
Francisco Facundo Rodriguez
Jay Bees
Jose Luis Garcia
HoneyMax S.A.
Mielar S.A.
Navicon S.A.
Nexco S.A.
Nutrin S.A.
Parodi Agropecuaria S.A.
Radix S.r.L.
Seylinco S.A.
Times S.A.
Transhoney S.A.
Brazil: Silicomanganese, A-351-824 | 12/1/03-11/30/04
Rio Doce Manganes S.A.
Companhia Paulista de Ferro-Ligas
Urucum Mineracao S.A.
India: Certain Hot-Rolled Carbon Steel Flat Products, A-533-820 | 12/1/03-11/30/04
Essar Steel Ltd.
The People's Republic of China: Certain Cased Pencils,¹A-570-827 | 12/1/03-11/30/04
Anhui Import/Export Group Corporation
Beijing Light Industrial Products Import/Export Corporation
Beijing Yixunda Technology and Trade Co., Ltd.
China First Pencil Company, Ltd.
Guangdong Provincial Stationery & Sporting Goods Import & Export Corporation
Orient International Holding Shanghai Foreign Trade Co., Ltd.
Shanghai Three Star Stationary Industry Corp.
Shanghai Weijun International Trading Inc./Grand World Inc.
Shandong Rongxin Import & Export Company Ltd.
Sichuan Light Industrial Products Import/Export Corporation
Three Star Stationery Industry Corp.
Tianjin Custom Wood Processing Co., Ltd.
The People's Republic of China: Honey,²A-570-863 | 12/1/03-11/30/04
Anhui Native Produce Import & Export Corp.
Anhui Honghui Foodstuff (Group) Co., Ltd.
Cheng Du Wai Yuan Bee Products Co., Ltd.
Eurasia Bee's Products Co., Ltd.
Foodworld International Club, Ltd.
High Hope International Group Jiangsu Foodstuffs Import and Export Corporation
Henan Native Produce Import and Export Corporation
Inner Mongolia Autonomous Region Native Produce and Animal By-Products Import & Export Corp.
Inner Mongolia Autonomous Region Native Produce and Animal By-Products
Inner Mongolia Youth Trade Development Co., Ltd.
Jiangsu Kanghong Natural Healthfoods Co., Ltd.
Jinfu Trading Co., Ltd.
Kunshan Foreign Trade Company
Shanghai Eswell Enterprise Co., Ltd.
Shanghai Shinomiel International Trade Corporation
Shanghai Xiuwei International Trading Co., Ltd.
Sichuan-Dujiangyan Dubao Bee Industrial Co., Ltd.
Wuhan Bee Healthy Co., Ltd.
Zhejiang Native Produce and Animal By-Products Import & Export Group Corp. (a.k.a. Zhejiang Native Produce and Animal By-Products Import & Export Corp.)
The People's Republic of China: Malleable Cast Iron Pipe Fittings,³ A-570-881 | 12/2/03-11/30/04
Beijing Sai Lin Ke Hardware Co., Ltd.
Langfang Pannext Pipe Fitting Co., Ltd.
Chengde Malleable Iron General Factory
SCE Co., Ltd.
The People's Republic of China: Porcelain-on-Steel Cooking Ware,⁴ A-570-506 | 12/1/03-11/30/04
Shanghai Watex Metal Products Co., Ltd.
The People's Republic of China: Silicomanganese,⁵A-570-828 | 12/1/03-11/30/04
Sichuan Huaxin Iron Alloy Co., Ltd./Yonghe Metal Co., Ltd.
Countervailing Duty Proceedings
Argentina: Honey,⁶ C-357-813 | 1/1/04-12/31/04
India: Certain Hot-Rolled Carbon Steel Flat Products, C-533-821 | 1/1/04-12/31/04
Essar Steel, Ltd.
Thailand: Certain Hot-Rolled Carbon Steel Flat Products, C-549-818 | 1/1/03-12/31/03
Sahaviriya Steel Industries Public Company Limited
Suspension Agreements
None
¹ If one of the above named companies does not qualify for a separate rate, all other exporters of certain cased pencils from the People's Republic of China who have not qualified for a separate rate are deemed to be covered by this review as part of the single PRC entity of which the named exporters are a part.
² If one of the above named companies does not qualify for a separate rate, all other exporters of honey from the People's Republic of China who have not qualified for a separate rate are deemed to be covered by this review as part of the single PRC entity of which the named exporters are a part.
³ If one of the above named companies does not qualify for a separate rate, all other exporters of malleable cast iron pipe fittings from the People's Republic of China who have not qualified for a separate rate are deemed to be covered by this review as part of the single PRC entity of which the named exporters are a part.
⁴ If one of the above named companies does not qualify for a separate rate, all other exporters of porcelain-on-steel cooking ware from the People's Republic of China who have not qualified for a separate rate are deemed to be covered by this review as part of the single PRC entity of which the named exporters are a part.
⁵ If one of the above named companies does not qualify for a separate rate, all other exporters of silicomanganese from the People's Republic of China who have not qualified for a separate rate are deemed to be covered by this review as part of the single PRC entity of which the named exporters are a part.
⁶ In accordance with section 351.213(b) of the regulations, the GOA and the petitioners have requested an administrative review of this countervailing duty order. No individual exporters requested the review pursuant to section 351.213(b) of the regulations. Accordingly, the Department will be conducting the review of this order on an aggregate basis.

During any administrative review covering all or part of a period falling between the first and second or third and fourth anniversary of the publication of an antidumping duty order under section 351.211 or a determination under section 351.218(f)(4) to continue an order or suspended investigation (after sunset review), the Secretary, if requested by a domestic interested party within 30 days of the date of publication of the notice of initiation of the review, will determine, consistent with FAG Italia v. United States, 291 F.3d 806 (Fed. Cir. 202), as appropriate, whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 U.S.C. 1675(a)), and 19 CFR 351.221(c)(1)(i).

Dated: January 26, 2005.
Holly A. Kuga,
Senior Office Director, Office 4 for Import Administration.

[FR Doc. 05-1731 Filed 1-28-05; 8:45 am]

BILLING CODE 3510-DS-P